TENNESSEE VALLEY AUTHORITY

Notice of Consideration of Energy Efficiency and Smart Grid Standards

SUMMARY: The Tennessee Valley Authority (TVA) is considering adopting for itself and the distributors of TVA power certain energy efficiency and Smart Grid standards. The standards being considered are the Integrated Resource Planning, Rate Design Modifications to Promote Energy Efficiency Investments, Consideration of Smart Grid Investments, and Smart Grid Information standards listed in section 111(d) of the Public Utility Regulatory Act of 1978 (Pub. L. 95-617) as amended by the Energy Independence and Security Act of 2007 (Pub. L. 110-140). The standards will be considered on the basis of their effect on conservation of energy, efficient use of facilities and resources, equity among electric consumers, and the objectives of the Tennessee Valley Authority Act. Comments are requested from the public on whether TVA should adopt these standards or any variations on them.

DATES: All comments on these standards must be received by April 30, 2009. Written comments may be mailed to: Veenita Bisaria, Tennessee Valley Authority, 400 W. Summit Hill Drive, WT3D-K, Knoxville, TN 37902, (865) 632-3939. Comments may also be submitted via the Web, at http://www.tva.com/purpa.

FOR FURTHER INFORMATION CONTACT: Veenita Bisaria, Tennessee Valley Authority (contact information above).

SUPPLEMENTARY INFORMATION: Of the standards being considered, the Public Utility Regulatory Act of 1978 (Pub. L. 95-617) as amended by the Energy Independence and Security Act of 2007 (Pub. L. 110-140) requires that TVA consider these standards. Accordingly, data, views, and comments are requested from the public on the Integrated Resource Planning, Rate Design Modifications to Promote Energy Efficiency Investments, Consideration of Smart Grid Investments, and Smart Grid Information standards. Comments on variations in any of the standards, as well as views for or against their adoption are welcome. These standards are being presented in order to initiate consideration and obtain the public's views on the need and desirability of such standards. Determinations on the appropriateness of the standards will be made by the TVA Board of Directors. The TVA Board will also determine, what, if any, standards included in this notice will be implemented by TVA for itself and the distributors of TVA power.

Standards: The standards about which a determination will be made are:

(1) Integrated Resource Planning. Each electric utility shall (A) integrate energy efficiency resources into utility, State, and regional plans; and (B) adopt policies establishing cost-effective energy efficiency as a priority resource.

(2) Rate design modifications to promote energy efficiency investments. (A) The rates allowed to be charged by any electric utility shall (i) align utility incentives with the delivery of cost-effective energy efficiency; and (ii) promote energy efficiency investments.

(3) Consideration of smart grid investments. Each State shall consider requiring that, prior to undertaking investments in nonadvanced grid technologies, an electric utility of the State demonstrate to the State that the electric utility considered an investment in a qualified smart grid system based on appropriate factors, including (i) Total costs; (ii) cost-effectiveness; (iii) improved reliability; (iv) security; (v) system performance; and (vi) societal benefit.

(4) Smart Grid information. (A) All electricity purchasers shall be provided direct access, in written or electronic machine-readable form as appropriate, to information from their electricity provider as provided in subparagraph (B).

(B) Information. Information provided under this section, to the extent practicable, shall include:

(i) Prices. Purchasers and other interested persons shall be provided with information on (I) time-based electricity prices in the wholesale electricity market; and (II) time-based electricity retail prices or rates that are available to the purchasers.

(ii) Usage. Purchasers shall be provided with the number of electricity units, expressed in kwh, purchased by them.

(iii) Intervals and projections. Updates of information on prices and usage shall be offered on not less than a daily basis, shall include hourly price and use information, where available, and shall include a day-ahead projection of such price information to the extent available.

(iv) Sources. Purchasers and other interested persons shall be provided annually with written information on the sources of the power provided by the utility, to the extent it can be determined, by type of generation, including greenhouse gas emissions associated with each type of generation, for intervals during which such information is available on a cost-effective basis.

(C) Access. Purchasers shall be able to access their own information at any time through the Internet and on other means of communication elected by that utility for Smart Grid applications. Other interested persons shall be able to access information not specific to any purchaser through the Internet. Information specific to any purchaser shall be provided solely to that purchaser.

Procedures: Written data, views, and comments on the standards are requested from the public. All material relating to the standards must be received by 5 p.m. EST on April 30, 2009. All materials received by TVA before this designated time will be considered by TVA. Written statements of TVA staff concerning the standards will be made part of the official record at least 30 days before the date the record closes, at which time they will be made available to the public on request. In order to assist interested consumers in preparing written data, views, and comments for the record, TVA will operate a Web site (http://www.tva.com/purpa) on which interested parties can be informed about the standards set out in this notice and on which interested parties can submit comments and materials on the standards. The official record will consist of all comments and materials submitted electronically and all written materials submitted within the time set forth above. A summary of the record will be prepared by TVA staff and will be transmitted to the TVA Board of Directors along with the complete record. The record will be used by the Board in making the determinations required by section 111(d) of the Public Utility Regulatory Policies Act of 1978 (Pub. L. 95-617) as amended by the Energy Independence and Security Act of 2007 (Pub. L. 110-140) and in fulfilling its obligation under the Tennessee Valley Authority Act. Individual copies of the record will be available to the public at cost of reproduction. Copies will also be kept on file for public inspection at the following locations: Tennessee Valley Authority, 400 W. Summit Hill Drive, WT3D-K, Knoxville, TN 37902, and on the Web at http://www.tva.com/purpa.

Dated: December 8, 2008.
Maureen H. Dunn,
Executive Vice President and General Counsel.

[FR Doc. E8-29713 Filed 12-15-08; 8:45 am]

BILLING CODE 8120-01-P